DEPARTMENT OF AGRICULTURE

Submission for OMB Review; Comment Request

February 19, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 27, 2015 will be considered. Written comments should be addressed to: Desk Officer for Agriculture, Office of Information and Regulatory Affairs, Office of Management and Budget (OMB), New Executive Office Building, 725—17th Street, NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: National Poultry Improvement Plan (NPIP).

OMB Control Number: 0579-0007.

Summary of Collection: Under the Animal Health Protection Act (7 U.S.C. 8301 et.seq.), the Animal and Plant Health Inspection Service (APHIS) is authorized to among other things, administer the National Poultry Improvement Plan (NPIP or the Plan), the primary purpose of which is to protect the health of the U.S. poultry population. NPIP is a voluntary Federal-State-industry cooperative program for the improvement of poultry flocks and products through disease control techniques. The NPIP regulations are contained in 9 CFR parts 56, 145, 146 and 147.

Need and Use of the Information: APHIS will collect information using several forms to continually improve the health of the U.S. poultry population and the quality of U.S. poultry products. If the information were collected less frequently or not collected, APHIS could not affectively monitor the health of the nation's poultry population.

Description of Respondents: Business or other for-profit; State, Local or Tribal Government.

Number of Respondents: 18,097.

Frequency of Responses: Recordkeeping; Reporting: On occasion.

Total Burden Hours: 104,311.

Animal and Plant Health Inspection Service

Title: Control of Chronic Wasting Disease.

OMB Control Number: 0579-0189.

Summary of Collection: The Animal Health Protection Act (AHPA) of 2002 is the primary Federal law governing the protection of animal health. The law gives the Secretary of Agriculture broad authority to detect, control, and eradicate pests or diseases of livestock or poultry, and to pay claims arising from destruction of animals. Disease prevention is the most effective method for maintaining a healthy animal population and enhancing the Animal and Plant Health Inspection Service (APHIS) ability to complete in exporting animals and animal products. Chronic wasting disease (CWD) is a transmissible spongiform encephalopathy (TSE) of elk, deer and moose typified by chronic weight loss leading to death. The presence of CWD disease in cervids causes significant economic and market losses to U.S. producers. In an effort to accelerate the control and limit the spread of this disease in the United States, APHIS created a cooperative, voluntary Federal-State-private sector CWD Herd Certification Program designed to identify farmed or captive herds infected with CWD and provided for the management of these herds in a way that reduces the risk of spreading CWD. APHIS is combining 0579-0237 into this information collection (0579-0189) and will retire 0579-0237 upon the approval of this renewal of 0579-0189.

Need and Use of the Information: APHIS will collect information from owners of elk, deer, and moose herds who choose to participate in the CWD Herd Certification program. They would need to follow program requirements for animal identification, testing, herd management, and movement of animals into and from herds. APHIS also established requirements for the interstate movement of cervids to prevent movement of elk, deer, and moose that pose a risk of spreading CWD. Carrying out this program will entail the use of several information collection activities: Memoranda of understandings; participation requests/applications; sample collections and lab submissions; herd records; cervid identification; reports of cervid disappearances, escapes, and deaths; herd plans; annual reports; consistent State reviews; epidemiological investigations; appraisal, destruction, and payment of indemnity; letter to appeal suspension; Interstate Certificates of Veterinary Inspection (ICVI); and wild cervid ICVI, and surveillance data. Failure to collect this information would cripple APHIS' ability to effectively sustain its CWD control program.

Description of Respondents: Business or other for-profit; State, Local or Tribal Government.

Number of Respondents: 5,735.

Frequency of Responses: Reporting and Recordkeeping: On occasion.

Total Burden Hours: 383,383.

Ruth Brown,
Departmental Information Collection Clearance Officer.

[FR Doc. 2015-03907 Filed 2-24-15; 8:45 am]

BILLING CODE 3410-34-P